DEPARTMENT OF THE INTERIOR

Bureau of Ocean Energy Management

[Docket No. BOEM-2024-0009]

Notice of Intent To Prepare an Environmental Impact Statement for the Proposed Vineyard Northeast Project on the U.S. Outer Continental Shelf Offshore Massachusetts; Corrections

AGENCY: Bureau of Ocean Energy Management, Interior.

ACTION: Notice of intent to prepare an environmental impact statement; corrections.

SUMMARY: On March 25, 2024, the Bureau of Ocean Energy Management (BOEM) published the “Notice of Intent to Prepare an Environmental Impact Statement for the Proposed Vineyard Northeast Project on the U.S. Outer Continental Shelf Offshore Massachusetts” in the Federal Register (89 FR 20691). That document contained incorrect in-person meeting addresses for both venues. The correct addresses are:

• Wednesday, April 17, 2024, 5 p.m.-9 p.m., Clarke Center Auditorium, Mitchell College, 682 Montauk Avenue, New London, Connecticut 06320; and

• Thursday, April 18, 2024, 5 p.m.-9 p.m., Westport High School Cafeteria, 400 Old County Road, Westport, Massachusetts 02790.

FOR FURTHER INFORMATION CONTACT: Heather Schultz, Office of Renewable Energy Programs, Bureau of Ocean Energy Management, 45600 Woodland Road, Sterling, Virginia 20166, (571) 396-1458 or heather.schultz@boem.gov.

SUPPLEMENTARY INFORMATION:

Technical Corrections

In the Federal Register dated March 25, 2024, in the third column of page 20691 and first column of page 20692, under the Dates caption, correct the information under the “In Person” heading to read:

In Person:

• Wednesday, April 17, 2024, 5 p.m.-9 p.m., Clarke Center Auditorium, Mitchell College, 682 Montauk Avenue, New London, Connecticut 06320; and

• Thursday, April 18, 2024, 5 p.m.-9 p.m., Westport High School Cafeteria, 400 Old County Road, Westport, Massachusetts 02790.

Karen Baker,
Chief, Office of Renewable Energy Programs, Bureau of Ocean Energy Management.

[FR Doc. 2024-07000 Filed 4-2-24; 8:45 am]

BILLING CODE 4340-98-P